DEPARTMENT OF AGRICULTURE

Animal and Plant Health Inspection Service

[Docket No. APHIS-2016-0086]

Notice of Request for Extension of Approval of an Information Collection; Spring Viremia of Carp; Import Restrictions on Certain Live Fish, Fertilized Eggs, and Gametes

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of live fish, fertilized eggs, and gametes to prevent the introduction of spring viremia of carp into the United States.

DATES: We will consider all comments that we receive on or before January 23, 2017.

ADDRESSES: You may submit comments by either of the following methods:

• Federal eRulemaking Portal: Go to http://www.regulations.gov/#!docketDetail;D=APHIS-2016-0086.

• Postal Mail/Commercial Delivery: Send your comment to Docket No. APHIS-2016-0086, Regulatory Analysis and Development, PPD, APHIS, Station 3A-03.8, 4700 River Road Unit 118, Riverdale, MD 20737-1238.

Supporting documents and any comments we receive on this docket may be viewed at http://www.regulations.gov/#!docketDetail;D=APHIS-2016-0086 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of live fish, fertilized eggs, and gametes, contact Dr. Christa Speekmann, Import-Export Specialist-Aquaculture, NIES, VS, APHIS, 4700 River Road Unit 39, Riverdale, MD 20737; (301) 851-3365. For copies of more detailed information on the information collection, contact Ms. Kimberly Hardy, APHIS' Information Collection Coordinator, at (301) 851-2483.

SUPPLEMENTARY INFORMATION:

Title: Spring Viremia of Carp; Import Restrictions on Certain Live Fish, Fertilized Eggs, and Gametes.

OMB Control Number: 0579-0301.

Type of Request: Extension of approval of an information collection.

Abstract: Under the Animal Health Protection Act (7 U.S.C. 8301 et seq.), the Animal and Plant Health Inspection Service (APHIS) of the U.S. Department of Agriculture is authorized, among other things, to prohibit or restrict the importation and interstate movement of animals and animal products to prevent the introduction into and dissemination within the United States of livestock diseases and pests. To carry out this mission, APHIS regulates the importation of animals and animal products into the United States. These regulations are contained in 9 CFR parts 92 through 98. Sections 93.900 through 93.906 contain requirements to prevent the introduction of spring viremia of carp (SVC) into the United States. SVC is a disease of certain species of finfish that is caused by an eponymous rhabdovirus. The disease is considered extremely contagious, and there are currently no U.S.-approved vaccines or treatments for the virus.

In accordance with the regulations, APHIS restricts the importation of live fish, fertilized eggs, and gametes of SVC-susceptible species and the importation of diagnostic specimens or research materials containing viable SVC virus. The regulations involve information collection activities, including a fish import permit application, application for import or in-transit permit, diagnostic specimen import application, refusal of entry and order to dispose of fish, health certificate, cleaning and disinfection certificate, recordkeeping, and 72-hour notification to APHIS before arrival of a shipment in the United States.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.333 hours per response.

Respondents: Fish farmers, brokers, personnel at aquatic pathogen detection laboratories, salaried veterinary officers of the national government of the exporting region or designated certifying officials, and importers of SVC-susceptible live fish, fertilized eggs, and gametes.

Estimated annual number of respondents: 40.

Estimated annual number of responses per respondent: 120.3.

Estimated annual number of responses: 4,811.

Estimated total annual burden on respondents: 1,603 hours. (Due to averaging, the total annual burden hours may not equal the product of the annual number of responses multiplied by the reporting burden per response.)

All responses to this notice will be summarized and included in the request for OMB approval. All comments will also become a matter of public record.

Done in Washington, DC, this 18th day of November 2016.
Kevin Shea,
Administrator, Animal and Plant Health Inspection Service.

[FR Doc. 2016-28230 Filed 11-22-16; 8:45 am]

BILLING CODE 3410-34-P